DEPARTMENT OF HOMELAND SECURITY

Coast Guard

[Docket No. USCG-2025-0294]

Cooperative Research and Development Agreement: “Enhancing Situational Awareness Through Use of Team Awareness Kit on USCG Navigation Systems”

AGENCY: Coast Guard, Department of Homeland Security.

ACTION: Notice of intent; request for comments.

SUMMARY: The Coast Guard is announcing its intent to enter into a Cooperative Research and Development Agreement (CRADA) with (Raymarine) to determine the efficacy of Team Awareness Kit incorporation into existing and future Coast Guard navigation systems. While the Coast Guard is currently considering partnering with (Raymarine), we are soliciting public comment on the possible nature of and participation of other parties in the proposed CRADA. The Coast Guard also encourages other federal agencies with relevant research interests and capabilities to submit proposals for similar Cooperative Research and Development Agreements (CRADAs).

DATES: Your comments and related material must reach the Coast Guard on or before October 6, 2025.

ADDRESSES: You may submit comments identified by docket number USCG-2025-0294 using the Federal portal at https://www.regulations.gov. See the “Public Participation and Request for Comments” portion of the SUPPLEMENTARY INFORMATION section for further instructions on submitting comments.

FOR FURTHER INFORMATION CONTACT: If you have questions about this notice of intent, call or email Mr. Paul Harvey, U.S. Coast Guard Research and Development Center; telephone 860-271-2600, email RDC-info@uscg.mil.

SUPPLEMENTARY INFORMATION:

I. Table of Abbreviations

DHS Department of Homeland Security

U.S.C. United States Code

II. Background and Purpose

Maritime situational and domain awareness is critical in supporting and effectively executing the eleven statutory missions of the Coast Guard. The Coast Guard maintains onboard navigations systems on assets to provide accurate electronic navigation capabilities. The incorporation of the Team Awareness Kit (TAK) within the navigational ecosystem will provide a Tactical Common Operational Picture which will interface with existing Coast Guard data systems.

Incorporating the TAK capability into existing and future Coast Guard navigation systems provides an opportunity to streamline and simplify user interfaces by co-locating both navigation and domain awareness information into a single system reducing the necessity for additional information systems and infrastructure onboard Coast Guard assets.

III. Public Participation and Request for Comments

We request public comments on this notice. Although we do not plan to respond to comments in the Federal Register, we will respond directly to commenters and may modify our proposal in light of comments.

We encourage you to submit comments in response to this notice of inquiry through the Federal Docket Management System at https://www.regulations.gov. To do so, go to https://www.regulations.gov, type USCG-2025-0294 in the search box and click “Search.” Next, look for this document in the Search Results column, and click on it. Then click on the Comment option. In your submission, please include the docket number for this notice of inquiry and provide a reason for each suggestion or recommendation. If your material cannot be submitted using https://www.regulations.gov, contact the person in the FOR FURTHER INFORMATION CONTACT section of this document for alternate instructions. To view documents mentioned in this notice of inquiry as being available in the docket, find the docket as described in the previous paragraph, and then select “Supporting & Related Material” in the Document Type column. Public comments will also be placed in our online docket and can be viewed by following instructions on the https://www.regulations.gov Frequently Asked Questions web page.

We accept anonymous comments. Comments we post to https://www.regulations.gov will include any personal information you have provided. For more about privacy and submissions in response to this document, see DHS's eRulemaking System of Records notice (85 FR 14226, March 11, 2020).

IV. Discussion

CRADAs are authorized under 15 U.S.C. 3710a.¹ A CRADA promotes the transfer of technology to the private sector for commercial use, as well as specified research or development efforts that are consistent with the mission of the Federal parties to the CRADA. The Federal party or parties agree with one or more non-Federal parties to share research resources, but the Federal party does not contribute funding.

¹ The statute confers this authority on the head of each Federal agency. The Secretary of DHS's authority is delegated to the Coast Guard and other DHS organizational elements by DHS Delegation No. 0160.1, para. II.B.34.

CRADAs are not procurement contracts. Care is taken to ensure that CRADAs are not used to circumvent the contracting process. CRADAs have a specific purpose and should not be confused with procurement contracts, grants, and other types of agreements.

Under the proposed CRADA, the R&D Center will collaborate with one non-Federal participant. Together, the R&D Center and the non-Federal participant will conduct testing, development and evaluation of the Team Awareness Kit within the Coast Guard (SINS2) navigational system on Coast Guard assets as well as the evaluation of future navigational systems.

We anticipate that the Coast Guard's contributions under the proposed CRADA will include the following:

1. Provide appropriate staff with pertinent expertise to take the lead in accomplishing the required tasks;

2. Provide all support resources, including travel, for Coast Guard staff that support this CRADA;

3. Obtain, transport and provide all of the ensemble items to be used during the evaluation;

4. Provide personnel support to non-Federal participants to assist with setting up and executing the evaluation in accordance with the agreed upon evaluation plan;

5. Work with the non-Federal participant to develop a Final Report, which will document the methodologies, findings, conclusions, and recommendations of this CRADA work.

We anticipate that the non-Federal participants' contributions under the proposed CRADA will include the following:

1. Provide appropriate staff with pertinent expertise to support the above-mentioned tasks;

2. Provide all necessary resources to incorporate the TAK capability into existing Coast Guard Raymarine navigation systems;

3. Provide the technical approach for system evaluation;

4. Work with the Federal participant to develop a Final Report, which will document the methodologies, findings, conclusions, and recommendations of this CRADA work.

The Coast Guard reserves the right to select for CRADA participants all, some, or no proposals submitted for this CRADA. The Coast Guard will provide no funding for reimbursement of proposal development costs. Proposals and any other material submitted in response to this notice will not be returned. Proposals submitted are expected to be unclassified and have not more than five single-sided pages (excluding cover page, DD 1494, JF-12, etc.). The Coast Guard will select proposals at its sole discretion on the basis of:

1. How well they communicate an understanding of and ability to meet, the proposed CRADA's goal; and

2. How well they address the following criteria:

a. Technical capability to support the non-Federal party contributions described, and

b. Resources available for supporting the non-Federal party contributions described.

Currently, the Coast Guard is considering Raymarine for participation in this CRADA. This consideration is based on the fact that Raymarine has demonstrated its technical ability and availability of appropriate expertise to effectively develop and test Team Awareness Kit capabilities within existing navigational systems. However, we do not wish to exclude other viable participants from this or future similar CRADAs.

This is a technology assessment effort. The goal of the Coast Guard for this CRADA is to determine the efficacy of co-locating both navigation and domain awareness capabilities into a single system currently in use by the Coast Guard. Special consideration will be given to small business firms and consortia, and preference will be given to business units located in the U.S. This notice is issued under the authority of 5 U.S.C. 552(a).

M.P. Chien,
Captain, Commanding Officer, U.S. Coast Guard Research and Development Center.

[FR Doc. 2025-16918 Filed 9-3-25; 8:45 am]

BILLING CODE 9110-04-P